FEDERAL DEPOSIT INSURANCE CORPORATION

Agency Information Collection Activities: Proposed Collections; Comment Request

AGENCY: Federal Deposit Insurance Corporation (FDIC).

ACTION: Notice and request for comment.

SUMMARY: The FDIC, as part of its continuing effort to reduce paperwork and respondent burden, invites the general public and other Federal agencies to take this opportunity to comment on the following information collections, as required by the Paperwork Reduction Act of 1995 (44 U.S.C. chapter 35): (1) Interagency Biographical and Financial Report; (2) Interagency Notice of Change in Control; (3) Recordkeeping and Disclosure Requirements in Connection with Regulation Z (Truth in Lending); (4) Recordkeeping and Disclosure Requirements in Connection with Regulation M (Consumer Leasing); and (5) Recordkeeping and Disclosure Requirements in Connection with Regulation B (Equal Credit Opportunity).

DATES: Comments must be submitted on or before December 18, 2007.

ADDRESSES: Interested parties are invited to submit written comments by any of the following methods. All comments should refer to the appropriate OMB control number:

• http://www.FDIC.gov/regulations/laws/federal/.

• E-mail: comments@fdic.gov. Include the name and number of the collection in the subject line of the message.

• Mail: Steven F. Hanft (202-898-3907), Legal Division, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB desk officer for the FDIC, Office of Information and Regulatory Affairs, Office of Management and Budget, New Executive Office Building, Washington, DC 20503.

FOR FURTHER INFORMATION CONTACT: Steven F. Hanft, at the address identified above.

SUPPLEMENTARY INFORMATION: Proposal to renew the following currently approved collections of information:

1. Title: Interagency Biographical and Financial Report.

OMB Number: 3064-0006.

Frequency of Response: On occasion.

Affected Public: Directors or officers of proposed or operating insured state nonmember banks.

Estimated Number of Respondents: 1,769.

Estimated Time per Response: 4 hours.

Total Annual Burden: 7,076 hours.

General Description of Collection: The Interagency Biographical and Financial Report is submitted to the FDIC by each individual director or officer of a proposed or operating financial institution applying for federal deposit insurance as a state nonmember bank. The information is used by the FDIC to evaluate the general character of bank management as required by the Federal Deposit Insurance Act.

2. Title: Interagency Notice of Change in Control.

OMB Number: 3064-0019.

Frequency of Response: On occasion.

Affected Public: Persons proposing to acquire ownership control of an insured state nonmember bank.

Estimated Number of Respondents: 27.

Estimated Time per Response: 30 hours.

Total Annual Burden: 810 hours.

General Description of Collection: Any person proposing to acquire control of an insured state nonmember bank must provide 60 days prior written notice of the proposed acquisition to the FDIC. The FDIC uses the information to determine whether the competence, experience, or integrity of any acquiring person, indicates that it would not be in the interest of the depositors of the bank or in the interest of the public, to permit such persons to control the bank.

3. Title: Recordkeeping and Disclosure Requirements in Connection with Regulation Z (Truth in Lending).

OMB Number: 3064-0082.

Frequency of Response: On occasion.

Affected Public: State nonmember banks that regularly offer or extend consumer credit.

Estimated Number of Respondents: 4,941.

Estimated Time per Response: 480 hours.

Total Annual Burden: 2,373,600 hours.

General Description of Collection: Regulation Z (12 CFR 226), issued by the Board of Governors of the Federal Reserve System, ensures adequate disclosure of the costs and terms of credit to consumers in open-end credit (revolving credit accounts) and closed-end credit (such as mortgage and installment loans).

4. Title: Recordkeeping and Disclosure Requirements in Connection with Regulation M (Consumer Leasing).

OMB Number: 3064-0083.

Frequency of Response: On occasion.

Affected Public: State nonmember banks that engage in consumer leasing.

Estimated Number of Respondents: 1,755.

Estimated burden per Respondent: 75 hours.

Total Annual Burden: 131,625.

General Description of Collection: Regulation M (12 CFR 213), issued by the Board of Governors of the Federal Reserve System, implements the consumer leasing provisions of the Truth in Lending Act by providing consumers with disclosures about the costs and terms of leases for personal property.

5. Title: Recordkeeping and Disclosure Requirements in Connection with Regulation B (Equal Credit Opportunity).

OMB Number: 3064-0085.

Frequency of Response: On occasion.

Affected Public: State nonmember banks engaging in credit transactions.

Estimated Number of Respondents: 5,318.

Estimated Time per Response: 134.9 hours.

Total Annual Burden: 717,642 hours.

General Description of Collection: Regulation B (12 CFR 202), issued by the Board of Governors of the Federal Reserve System, prohibits creditors from discriminating against applicants on any of the bases specified by the Equal Credit Opportunity Act, and requires disclosures and recordkeeping requirements to implement those prohibitions.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; (d) ways to minimize the burden of the information collection on respondents, including through the use of automated collection techniques or other forms of information technology; and (e) estimates of capital or start up costs, and costs of operation, maintenance and purchase of services to provide the information.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 15th day of October 2007.
Federal Deposit Insurance Corporation.
Robert E. Feldman,
Executive Secretary.

[FR Doc. E7-20584 Filed 10-18-07; 8:45 am]

BILLING CODE 6714-01-P